DEPARTMENT OF DEFENSE

Office of the Secretary

[Docket ID: DoD-2012-OS-0123]

Proposed Collection; Comment Request

AGENCY: Office of the Assistant Secretary of Defense for Public Affairs, DoD.

ACTION: Notice.

In compliance with Section 3506(c)(2)(A) of the Paperwork Reduction Act of 1995, the Office of the Assistant Secretary of Defense for Public Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 10, 2012.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Assistant Secretary of Defense for Public Affairs, Community and Public Outreach Division, ATTN: Adrien Starks, 1400 Defense Pentagon, Washington, DC 20301-1400, or call OASD(PA)/CPO, at 703-695-6290.

Title; Associated Form; and OMB Number: Checklist for Requesting Approval of Still and Motion Imagery of Military Personnel and Equipment for Commercial Purposes; DD Form x633; OMB Control Number 0704-TBD.

Needs and Uses: The information collection requirement is necessary to collect information from those who seek DoD approval prior to the use of still or motion imagery of military personnel and equipment for commercial purposes. The form prescribes processes/standards that have been established for granting image use approval, when requested. It further allows DoD a duty of care to military members to not approve commercial uses of imagery that infringe their rights.

Affected Public: Business or other for profit; Not-for-profit institutions.

Annual Burden Hours: 350.

Number of Respondents: 350.

Responses per Respondent: 6.

Average Burden per Response: 10 minutes.

Frequency: On occasion.

SUPPLEMENTARY INFORMATION:

Summary of Information Collection

Respondents are members of non-profit organizations wanting to use the military in their promotional and/or fund raising material. Respondents may also be marketing and advertising professionals who provide military or patriotic-themed exhibits, promotional material, web page designs, and advertisements for their business clients and require DoD approval for use of military imagery as part of their standard operating procedure. The completed form allows the respondents to acknowledge and comply with the DoD guidelines for granting military image use approval in their products. The completed form is included with the final mock-up of the proposed commercial use product and serves as notification that the respondent has complied with the DoD guidelines. If the form is not submitted or is incomplete, individuals reviewing the military imagery in the proposed commercial use product must contact the respondent and convey the requested changes in order to obtain DoD approval. Having the marketing, advertising, and non-profit organization professionals complete the form will educate the community of respondents about DoD guidelines, reduce the response time to their requests, and increase efficiency for those reviewing the requests.

Dated: October 3, 2012.
Aaron Siegel,
Alternate OSD Federal Register Liaison Officer, Department of Defense.

[FR Doc. 2012-24737 Filed 10-5-12; 8:45 am]

BILLING CODE 5001-06-P